LEGAL SERVICES CORPORATION

Sunshine Act Meetings of the Board of Directors and Four of the Board's Committees

Times and Dates: The Legal Services Corporation Board of Directors will meet on January 28, 2006, and four of its Committees will meet on January 27, 2006 in the order set forth in the following schedule, with each subsequent meeting commencing shortly after adjournment of the prior meeting.

Meeting Schedule

Friday, January 27, 2006—9 a.m.

1. Performance Reviews Committee.

2. Finance Committee.

3. Provision for the Delivery of Legal Services Committee (“Provisions Committee”).

4. Operations and Regulations Committee.

Saturday, January 28, 2006—9 a.m.

1. Board of Directors.

Location: The Melrose Hotel, 2430 Pennsylvania Avenue, NW., Washington, DC.

Status of Meetings: Open, except as noted below.

• Status: January 27, 2006 Annual Performance Reviews Committee Meeting—Closed. The Performance Reviews Committee meeting may be closed to the public pursuant to a vote of the Board of Directors authorizing the Committee to meet in executive session to consider and act on the performance reviews of the Corporation's President and Inspector General (“IG”). The closing will be authorized by the relevant provisions of the Government in the Sunshine Act [5 U.S.C. 552b(c)(2) and 552b(c)(6)] and the Legal Services Corporation's corresponding regulation, 45 CFR 1622.5(a) and 1622.5(e). A copy of the General Counsel's Certification that the closing is authorized by law will be available upon request.

• Status: January 27, 2006 Operations & Regulations Committee Meeting—Open, except that a portion of the meeting of the Committee may be closed to the public pursuant to a vote of the Board of Directors authorizing the Committee to meet in executive session to consider and act on the General Counsel's report on pending litigation regarding LSC's program integrity regulation at 45 CFR Part 1610. The closing will be authorized by the relevant provisions of the Government in the Sunshine Act [5 U.S.C. 552b(c)(10)] and the Legal Services Corporation's corresponding regulation, 45 CFR 1622.5(h). A copy of the General Counsel's Certification that the closing is authorized by law will be available upon request.

• Status: January 28, 2006 Board of Directors Meeting—Open, except that a portion of the meeting of the Board of Directors may be closed pursuant to a vote of the Board of Directors to hold an executive session. At the closed session, the Board will consider and may act on the General Counsel's report on litigation to which the Corporation is or may become a party, discuss internal procedures with and receive a report on investigations from the IG,¹ and consider and may act on the report of the Annual Performance Reviews Committee on the performance reviews of the Corporation's President and IG. The closing is authorized by the relevant provisions of the Government in the Sunshine Act [5 U.S.C. 552b(c)(10), 552b(c)(2) and 552b(c)(6)] and LSC's implementing regulation 45 CFR 1622.5(h), 1622.5(a) and 1622.5(e). A copy of the General Counsel's Certification that the closing is authorized by law will be available upon request.

¹ Any portion of the closed session consisting solely of staff briefings does not fall within the Sunshine Act's definition of the term “meeting” and, therefore, the requirements of the Sunshine Act do not apply to such portion of the closed session. 5 U.S.C. 552(b)(a)(2) and (b). See also 45 CFR 1622.2 & 1622.3.

Matters To Be Considered: Friday, January 27, 2006.

Peformance Reviews Committee

Agenda

Closed Session

1. Approval of agenda.

2. Consider and act on annual performance review of LSC President.

—Meet with Helaine Barnett.

3. Consider and act on annual performance review of LSC Inspector General.

—Meet with Kirt West.

4. Consider and act on other business.

5. Consider and act on adjournment of meeting.

Finance Committee

Agenda

Open Session

1. Approval of agenda.

2. Approval of the minutes of the Committee's meeting of October 28, 2005.

3. Report on the Financial Audit for FY 2005.

4. Report on the final FY 2006 Appropriations.

5. Consider and act on adoption of Consolidated Operating Budget for FY 2006.

6. Presentation on LSC's Financial Reports for the first two months of FY 2006.

7. Report on plan for submitting FY 2007 Budget Request to Congress.

8. Consider and act on other business.

9. Public comment.

10. Consider and act on adjournment of meeting.

Provisions Committee

Agenda

Open Session

1. Approval of agenda.

2. Approval of the Committee's meeting minutes of October 28, 2005.

3. Panel discussion on Private Attorney Involvement in LSC-funded programs Moderator: Karen Sarjeant, LSC Vice President for Programs and Compliance.

• The panel will discuss pro bono efforts and how legal services offices are effectively utilizing private attorney involvement, including a general overview of different approaches and various models, identification of some of the issues, challenges and problems, learning what others are doing, and focusing on what can be done to better facilitate and encourage pro bono involvement in LSC-funded programs.

• In addition, the panel will focus on what law firms are doing to encourage their attorneys to provide pro bono services. What are the ways in which private law firms allow their attorneys to do this? What are the challenges? What are law firms doing to deal with economic pressures so that they can provide pro bono services while still meeting their economic model?

• What can LSC and/or its grantees do to further encourage private attorney involvement?

• Panel Members:

—Esther Lardent, President, The Pro Bono Institute.

—Charles T. Lester, Jr., Esq., Sutherland Asbill & Brennan—Atlanta, GA.

—Neil McBride, General Counsel, Legal Aid Society of Middle Tennessee & the Cumberlands.

—Jonathan Ross, Chair, ABA Standing Committee on Pro Bono and Public Service.

—Robert N. Weiner, Esq., Arnold & Porter—Washington, DC.

4. Public comment.

5. Staff update on revision of LSC Performance Criteria.

6. Consider and act on other business.

7. Consider and act on adjournment of meeting.

Operations & Regulations Committee

Agenda

Open Session

1. Approval of agenda.

2. Approval of minutes of the Committee's meeting of October 29, 2005.

3. Consider and act on Draft Final Rule to remove Expenditure of Grant Funds regulation, 45 CFR part 1631.

a. Staff report.

b. Public comment.

4. Consider and act on rulemaking to revise Client Grievance Procedure regulation, 45 CFR part 1621.

a. Staff report.

b. Public comment.

5. Consider and act on initiation of rulemaking to revise Prohibition Against Discrimination on the Basis of Handicap regulation, 45 CFR part 1624.

a. Staff report.

b. Public comment.

6. Consider and act on Legal Action of Wisconsin's Petition for Rulemaking on LSC's Private Attorney Involvement regulation, 45 CFR part 1614.

a. Staff report.

b. Comments by Robert Henderson, Managing Attorney, LaCrosse Office, Legal Action of Wisconsin.

c. Public Comment.

7. Consider and act on other business.

8. Other public comment.

Closed Session

9. Consider and act on the General Counsel's report on pending litigation regarding LSC's program integrity regulation, 45 CFR part 1610.

10. Consider and act on adjournment of meeting.

Saturday, January 28, 2006

Board of Directors

Agenda

Open Session

1. Approval of agenda.

2. Approval of minutes of the Board's meeting of October 29, 2005.

3. Approval of minutes of the Executive Session of the Board's meeting of October 29, 2005.

4. Approval of minutes of the Board's Open Session Telephonic meeting of November 28, 2005.

5. Consider and act on nominations for the Chairman of the Board of Directors.

6. Consider and act on nominations for the Vice Chairman of the Board of Directors.

7. Consider and act on delegation to Chairman of authority to make Committee assignments.

8. Consider and act on Strategic Directions for 2006-2010.

9. Chairman's Report.

10. Members' Reports.

11. President's Report.

12. Inspector General's Report.

13. Consider and act on the report of the Provision for the Delivery of Legal Services Committee.

14. Consider and act on the report of the Finance Committee.

15. Consider and act on the report of the Operations & Regulations Committee.

16. Consider and act on other business.

17. Public comment.

18. Consider and act on whether to authorize an executive session of the Board to address items listed below under Closed Session.

Closed Session

19. Consider and act on General Counsel's report on potential and pending litigation involving LSC.

20. Discussion of internal procedures with OIG.

21. IG report to the Board.

22. Consider and act on the report of the Performance Reviews Committee.

23. Consider and act on motion to adjourn meeting.

Contact Person For Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: January 17, 2006.
Victor M. Fortuno,
Vice President for Legal Affairs, General Counsel & Corporate Secretary.

[FR Doc. 06-549 Filed 1-17-06; 4:19 pm]

BILLING CODE 7050-01-P